DEPARTMENT OF ENERGY

Federal Energy Regulatory Commission

[Docket No. EC02-30-000, et al.]

Northwest Natural Gas Company, et al.; Electric Rate and Corporate Regulation Filings

December 7, 2001.

Take notice that the following filings have been made with the Commission:

1. Northwest Natural Gas Company and Portland General Electric Company

[Docket No. EC02-30-000]

Take notice that on November 30, 2001, Northwest Natural Gas Company (NW Natural) and Portland General Electric Company (PGE) (collectively, the Applicants) filed with the Federal Energy Regulatory Commission (Commission) an application pursuant to Section 203 of the Federal Power Act for authorization of a disposition of jurisdictional facilities whereby Northwest Natural Holding Company (NW Natural Holdco), a newly-formed holding company, will acquire all of the outstanding common stock of PGE.

The Applicants state that the transaction will not have an adverse effect on competition, will not have an adverse effect on rates, and will not have an adverse effect on competition.

Comment date: December 21, 2001, in accordance with Standard Paragraph E at the end of this notice.

2. Entergy Power Ventures, L.P.

[Docket No. EG02-25-000]

Take notice that on December 5, 2001, Entergy Power Ventures, L.P., 20 Greenway Plaza, Suite 1025, Houston, Texas 77046, filed with the Federal Energy Regulatory Commission an amendment to its application for determination of exempt wholesale generator status pursuant to section 32(a)(1) of the Public Utility Holding Company Act of 1935, as amended. The applicant is a limited partnership that will be engaged directly or indirectly and exclusively in the business of developing and ultimately owning and/or operating an interest in a 550 megawatt gas-fired, combined cycle electric generating facility located in Harrison County, Texas and selling electric energy at wholesale.

Comment date: December 21, 2001, in accordance with Standard Paragraph E at the end of this notice. The Commission will limit its consideration of comments to those that concern the adequacy or accuracy of the application.

3. Duke Energy Arlington Valley, LLC

[Docket No. EG02-40-000]

Take notice that on November 30, 2001, Duke Energy Arlington Valley, LLC (Duke Arlington Valley) filed an application with the Federal Energy Regulatory Commission (the Commission) for determination of exempt wholesale generator status pursuant to Section 32 of the Public Utility Holding Company Act of 1935, as amended, and part 365 of the Commission's regulations.

Duke Arlington Valley is a Delaware limited liability company that will be engaged directly and exclusively in the business of owning and operating all or part of one or more eligible facilities to be located in Maricopa County, Arizona. The eligible facilities will consist of an approximately 1,200 MW natural gas-fired, combined cycle electric generation plant and related interconnection facilities. The output of the eligible facilities will be sold at wholesale.

Comment date: December 28, 2001, in accordance with Standard Paragraph E at the end of this notice. The Commission will limit its consideration of comments to those that concern the adequacy or accuracy of the application.

4. FPL Energy Marcus Hook, L.P.

[Docket No. EG02-41-000]

Take notice that on November 30, 2001, FPL Energy Marcus Hook, L.P. (Applicant), with its principal office at 700 Universe Boulevard, Juno Beach, FL 33408, tendered for filing with the Federal Energy Regulatory Commission (Commission), an application for determination of exempt wholesale generator status pursuant to part 365 of the Commission's regulations.

Applicant states that it is a Delaware limited partnership engaged directly and exclusively in the business of developing and operating an approximately 740 MW generating facility to be located in Marcus Hook, Pennsylvania. Electric energy produced by the facility will be sold at wholesale or at retail exclusively to foreign consumers.

Comment date: December 27, 2001, in accordance with Standard Paragraph E at the end of this notice. The Commission will limit its consideration of comments to those that concern the adequacy or accuracy of the application.

5. ISO New England Inc.

[Docket No. EL00-62-039]

Take notice that on December 3, 2001, ISO New England Inc. (the ISO) tendered for filing with the Federal Energy Regulatory Commission (Commission) a compliance filing in response to the August 28, 2001 order in the referenced proceeding.

Comment date: January 2, 2002, in accordance with Standard Paragraph E at the end of this notice.

6. Liberty Electric Power, LLC

[Docket No. ER01-2398-003]

Take notice that on December 4, 2001, Liberty Electric Power, LLC, which will own and operate a natural gas-fired electric generating facility in the Borough of Eddystone, Pennsylvania submitted for filing with the Federal Energy Regulatory Commission (Commission) its Supplement No. 1 to its FERC Electric Tariff Original Volume No. 1, in compliance with the Commission's November 20, 2001 letter order to include a code of conduct reflecting Liberty Electric's pending affiliation with Reliant HL&P.

Comment date: December 26, 2001, in accordance with Standard Paragraph E at the end of this notice.

7. Colton Power L.P.

[Docket Nos. ER01-2644-003]

Take notice that on December 4, 2001, Colton Power L.P. (Applicant) tendered for filing with the Federal Energy Regulatory Commission (Commission) a further amended market-based rate schedule under section 205 of the Federal Power Act in order to comply with the Federal Energy Regulatory Commission's Order Establishing Refund Effective Date and Proposing to Revise Market-Based Rate Tariffs and Authorization issued in Docket No. EL01-118 on November 20, 2001.

Comment date: December 26, 2001, in accordance with Standard Paragraph E at the end of this notice.

8. New York Independent System Operator, Inc.

[Docket No. ER01-3001-002]

Take notice that on December 4, 2001, the New York Independent System Operator, Inc. (NYISO) submitted with the Federal Energy Regulatory Commission (Commission) a report on the status of its demand side management programs and the status of the addition of new generation resources in New York State in compliance with the Commission's October 25, 2001 Order in this proceeding. The NYISO has served a copy of this filing upon all parties that have executed service agreements under the NYISO's Open Access Transmission Tariff and Market Administration and Control Area Services Tariff.

Comment date: December 26, 2001, in accordance with Standard Paragraph E at the end of this notice.

9. Mid-Continent Area Power Pool

[Docket No. ER02-163-001]

Take notice that on December 4, 2001, the Mid-Continent Area Power Pool (MAPP), tendered for filing with the Federal Energy Regulatory Commission (Commission) on behalf of its members that are subject to Commission jurisdiction as public utilities under section 201(e) of the Federal Power Act, tendered for filing, pursuant to Order No. 614, Cover Sheets for the termination of Short-Term and Non-Firm Point-To-Point Transmission Service Agreements between MAPP and El Paso Merchant Energy, L.P., formerly Coastal Merchant Energy, L.P. and originally Engage Energy US, L.P.

Comment date: December 26, 2001, in accordance with Standard Paragraph E at the end of this notice.

10. New England Power Pool

[Docket No. ER02-434-000]

Take notice that on November 30, 2001, the New England Power Pool (NEPOOL) Participants Committee filed for acceptance materials (1) to permit NEPOOL to expand its membership to include Mohawk River Funding III, L.L.C. (Mohawk); and (2) to terminate the membership of IRATE, Inc (IRATE). The Participants Committee requests an effective date of February 1, 2002 for commencement of participation in NEPOOL by Mohawk and December 1, 2001 for the termination of IRATE.

The Participants Committee states that copies of these materials were sent to the New England state governors and regulatory commissions and the Participants in NEPOOL.

Comment date: December 21, 2001, in accordance with Standard Paragraph E at the end of this notice.

11. Progress Energy Inc. on behalf of Carolina Power & Light Company

[Docket No. ER02-435-000]

Take notice that on November 29, 2001, Carolina Power & Light Company (CP&L) tendered for filing an executed Service Agreement between CP&L and the following eligible buyer, Florida Power Corporation. Service to this eligible buyer will be in accordance with the terms and conditions of CP&L's Market-Based Rates Tariff, FERC Electric Tariff No. 5. Copies of the filing were served upon the North Carolina Utilities Commission and the South Carolina Public Service Commission.

CP&L requests an effective date of November 8, 2001 for this Service Agreement.

Comment date: December 20, 2001, in accordance with Standard Paragraph E at the end of this notice.

12. Commonwealth Edison Company

[Docket No. ER02-436-000]

Take notice that on November 29, 2001, Commonwealth Edison Company (ComEd) submitted for filing with the Federal Energy Regulatory Commission (Commission) a Form of Service Agreement for Short-Term Firm Point-To-Point Transmission Service and a Form of Service Agreement for Non-Firm Point-To-Point Transmission Service (Service Agreements) between ComEd and Dominion Nuclear Marketing II, Inc. (Dominion Nuclear) under the terms of ComEd's Open Access Transmission Tariff (OATT). Copies of this filing were served on Dominion Nuclear.

ComEd requests an effective date of November 1, 2001, and accordingly seeks waiver of the Commission's notice requirements.

Comment date: December 20, 2001, in accordance with Standard Paragraph E at the end of this notice.

13. Wayne-White Counties

[Docket No. ER02-437-000]

Electric Cooperative

Take notice that Wayne-White Counties Electric Cooperative (Wayne-White or Cooperative) on November 29, 2001, tendered for filing an executed Service Agreement for Firm Point-to-Point Transmission Service with Illinois Power Company. Under the Service Agreement, Wayne-White will provide firm point-to-point transmission service to Illinois Power Company under the Cooperative's Open Access Transmission Tariff. Wayne-White requests an effective date of January 1, 2002, the date service will be first provided.

A copy of the filing was served upon Illinois Power Company.

Comment date: December 20, 2001, in accordance with Standard Paragraph E at the end of this notice.

14. Midwest Independent Transmission System Operator, Inc., Alliant Energy Corporate Services, Inc., et al.

[Docket No. ER02-438-000]

Take notice that on November 30, 2001, the Midwest ISO Transmission Owners submitted their transmission loss factors that will be used in connection with the loss recovery methodology of the Midwest Independent Transmission System Operator, Inc. (Midwest ISO). The Midwest ISO Transmission Owners state that the loss factors are calculated in the same manner as those filed on April 28, 2000 in Docket No. ER98-1438-006 and approved by the Commission's Opinion No. 453, but have been revised and supplemented to reflect the significant changes in the composition of the membership of the Midwest ISO Transmission Owners since April 28, 2000.

In addition, the Midwest ISO and Midwest ISO Transmission Owners jointly submitted related changes to Attachment M of the Midwest ISO Open Access Transmission Tariff, to clarify the handling of losses for transmission transactions occurring solely within a single control area or within certain transmission zones that each will be treated as a “control area” for purposes of Attachment M.

The Midwest ISO and Midwest ISO Transmission Owners propose an effective date of January 1, 2002 for these tariff sheets, to ensure that loss factors that are compatible with the loss calculation methodology in the Midwest ISO tariff are effective on the same day that tariff becomes effective.

Comment date: December 21, 2001, in accordance with Standard Paragraph E at the end of this notice.

15. Southern California Edison Company

[Docket No. ER02-439-000]

Take notice, that on November 30, 2001, Southern California Edison Company (SCE) tendered for filing the Amended and Restated Winter Power Sales (Agreement) between SCE and PacifiCorp, which provides the terms to revise the pricing and scheduling provisions to the Winter Sale Power Agreement (Original Agreement) to take into account the changes in the market since the California Power Exchange closed and to provide for use of certain California Independent System Operator markets and/or scheduling protocols in the implementation of the Original Agreement for the delivery season beginning October 15, 2001.

SCE requests the Commission to assign an effective date October 15, 2001 to the Agreement.

Copies of this filing were served upon the Public Utilities Commission of California and PacifiCorp.

Comment date: December 21, 2001, in accordance with Standard Paragraph E at the end of this notice.

16. Southern California Edison Company

[Docket No. ER02-440-000]

Take notice that on November 30 , 2001, Southern California Edison Company (SCE) submitted a Letter Agreement between SCE and Whitewater Energy Corporation (Whitewater). The Letter Agreement specifies the terms and conditions under which SCE will provide pre-interconnection activities including engineering, design, and procurement.

Copies of this filing were served upon the Public Utilities Commission of the State of California and Whitewater.

Comment date: December 21, 2001, in accordance with Standard Paragraph E at the end of this notice.

17. California Independent System Operator Corporation

[Docket No. ER02-441-000]

Take notice that the California Independent System Operator Corporation, (ISO) on November 30, 2001, tendered for filing with the Federal Energy Regulatory Commission (Commission) a Participating Generator Agreement between the ISO and CalPeak Power—Panoche LLC for acceptance by the Commission.

The ISO states that this filing has been served on CalPeak Power—Panoche LLC and the California Public Utilities Commission.

The ISO is requesting waiver of the 60-day notice requirement to allow the Participating Generator Agreement to be made effective November 26, 2001.

Comment date: December 21, 2001, in accordance with Standard Paragraph E at the end of this notice.

18. New England Power Company

[Docket No. ER02-442-000]

Take notice that on November 30, 2001, New England Power Company (NEP) submitted Second Revised Service Agreement No. 4 (Service Agreement) between NEP and Georgetown Municipal Light Department for network integration transmission service under NEP's open access transmission tariff—New England Power Company, FERC Electric Tariff, Second Revised Volume No. 9. This Service Agreement is an amended version of the First Revised Service Agreement that was filed on August 8, 2001, in Docket No. ER01-2802-000.

The terms of the amended agreement are identical to the terms of the original agreement, except for an address correction and a change in the agreement's expiration date. NEP requests an effective date of November 30, 2001.

NEP states that a copy of this filing has been served upon the Department of Telecommunications and Energy of the Commonwealth of Massachusetts and parties to the agreement.

Comment date: December 21, 2001, in accordance with Standard Paragraph E at the end of this notice.

19. Duke Energy Arlington Valley, LLC

[Docket No. ER02-443-000]

Take notice that on November 30, 2001, Duke Energy Arlington Valley, LLC (Duke Arlington Valley) tendered for filing pursuant to Section 205 of the Federal Power Act its proposed FERC Electric Tariff No. 1.

Duke Arlington Valley seeks authority to sell energy and capacity, as well as ancillary services, at market-based rates, together with certain waivers and preapprovals. Duke Arlington Valley also seeks authority to sell, assign, or transfer transmission rights that it may acquire in the course of its marketing activities. Duke Arlington Valley seeks an effective date 60 days from the date of filing for its proposed rate schedules.

Comment date: December 21, 2001, in accordance with Standard Paragraph E at the end of this notice.

20. Constellation Power Source Generation, Inc.

[Docket No. ER02-444-000]

Take notice that on November 30, 2001, Constellation Power Source Generation, Inc. submitted for filing a First Amendment to Power Sales Agreement between Constellation Power Source Generation, Inc. and Constellation Power Source, Inc. effective November 1, 2001.

Comment date: December 21, 2001, in accordance with Standard Paragraph E at the end of this notice.

21. Calvert Cliffs Nuclear Power Plant, Inc.

[Docket No. ER02-445-000]

Take notice that on November 30, 2001, Calvert Cliffs Nuclear Power Plant, Inc. submitted for filing a First Amendment to Power Sales Agreement between Calvert Cliffs Nuclear Power Plant, Inc. and Constellation Power Source, Inc. effective November 1, 2001.

Comment date: December 21, 2001, in accordance with Standard Paragraph E at the end of this notice.

22. California Independent System Operator Corporation

[Docket No. ER02-446-000]

Take notice that on November 30, 2001, the California Independent System Operator Corporation, (ISO) tendered for filing a Meter Service Agreement for ISO Metered Entities between the ISO and CalPeak Power—Panoche LLC for acceptance by the Commission.

The ISO states that this filing has been served on CalPeak Power—Panoche LLC and the California Public Utilities Commission.

The ISO is requesting waiver of the 60-day notice requirement to allow the Meter Service Agreement for ISO Metered Entities to be made effective November 26, 2001.

Comment date: December 21, 2001, in accordance with Standard Paragraph E at the end of this notice.

23. Midwest Energy, Inc.

[Docket No. ER02-447-000]

Take Notice that on November 29, 2001, Midwest Energy, Inc. (Midwest) tendered for filing with the Federal Energy Regulatory Commission (Commission) the Transaction Service Agreement entered into between Midwest and Southwestern Public Service Company governing the sale of power under Midwest's Wholesale Service Tariff.

Comment date: December 20, 2001, in accordance with Standard Paragraph E at the end of this notice.

24. Tucson Electric Power Company

[Docket No. ER02-448-000]

Take notice that on November 29, 2001, Tucson Electric Power Company (Tucson), tendered for filing the Second Amended and Restated Wholesale Power Supply Agreement between Tucson Electric Power Company and Navajo Tribal Utility Authority dated November 1, 2001. The Second Amended and Restated Wholesale Power Supply Agreement is a result of a re-negotiation of the power supply arrangement between Tucson and the Navajo Tribal Utility Authority. Tucson has mailed a copy of the filing to the Navajo Tribal Utility Authority.

Comment date: December 20, 2001, in accordance with Standard Paragraph E at the end of this notice.

25. PG&E Dispersed Generating Company, LLC

[Docket No. ER02-449-000]

Take notice that on November 30, 2001, PG&E Dispersed Generating Company, LLC (PG&E Dispersed Gen) tendered for filing a service agreement for power sales (Service Agreement) with its affiliate, PG&E Energy Trading-Power, L.P. (PGET) pursuant to which PG&E Dispersed Gen will sell capacity, energy and ancillary services to PGET at market-based rates according to its FERC Electric Tariff, Original Volume No. 1.

Comment date: December 21, 2001, in accordance with Standard Paragraph E at the end of this notice.

26. PJM Interconnection, L.L.C.

[Docket No. ER02-450-000]

Take notice that on November 30, 2001, PJM Interconnection, L.L.C. (PJM), tendered for filing an executed service agreement for firm point-to-point transmission service for ODEC.

Copies of this filing were served upon ODEC and the state commissions within the PJM control area.

Comment date: December 21, 2001, in accordance with Standard Paragraph E at the end of this notice.

27. American Transmission Company LLC

[Docket No. ER02-451-000]

Take notice that on November 30, 2001, American Transmission Company LLC (ATCLLC) tendered for filing an executed Distribution-Transmission Interconnection Agreement between ATCLLC and City of Menasha. ATCLLC requests an effective date of June 25, 2001.

Comment date: December 21, 2001, in accordance with Standard Paragraph E at the end of this notice.

28. Exelon Generation Company, LLC

[Docket No. ER02-452-000]

Take notice that on November 29, 2001, Exelon Generation Company, LLC (Exelon Generation), submitted for filing a power sales service agreement between Exelon Generation and City of Rochelle under Exelon Generation's wholesale power sales tariff, FERC Electric Tariff Original Volume No. 1.

Comment date: December 21, 2001, in accordance with Standard Paragraph E at the end of this notice.

29. Conectiv Bethlehem, Inc.

[Docket No. ER02-453-000]

Take notice that on November 30, 2001, Conectiv Bethlehem, Inc. (CBI), filed an application for market-based rate authority pursuant to section 205 of the Federal Power Act. The application includes a market-based rate tariff (the Tariff). The application also includes a tolling agreement between CBI and Conectiv Energy Supply, Inc., which is a service agreement under the Tariff. Conectiv requests that the Tariff and the service agreement become effective on February 1, 2002, sixty days after the date of this filing.

Comment date: December 21, 2001, in accordance with Standard Paragraph E at the end of this notice.

30. West Penn Power Company, Monongahela Power Company, The Potomac Edison Company, ba Allegheny Power

[Docket No. ER02-454-000]

Take notice that on November 30, 2001, West Penn Power Company, Monongahela Power Company, and The Potomac Edison Company, all doing business as Allegheny Power filed a Network Integration Transmission Service Agreement and a Network Operating Agreement for service to Allegheny Electric Cooperative, Inc. and an unexecuted network integration transmission service agreement for service to Allegheny Electric Cooperative, Inc. Allegheny Power requests an effective date of December 1, 2001.

Comment date: December 21, 2001, in accordance with Standard Paragraph E at the end of this notice.

31. Pacific Gas and Electric Company, PG&E Corporation, On Behalf of Its Subsidiaries ETrans LLC and Electric Generation LLC

[Docket No. ES02-17-000]

Take notice that on November 30, 2001, Pacific Gas and Electric Company (PG&E) and PG&E Corporation (Parent), on behalf of its subsidiaries, ETrans LLC (ETrans) and Electric Generation LLC (Gen) (collectively, the Applicants), submitted for filing, pursuant to section 204 of the Federal Power Act, and part 34 of the Commission's regulations, an Application for the issuance of securities and the assumption of liabilities, and waiver of the Commission's competitive bidding and negotiated placement requirements under section 34.2 of the Commission's regulations, in connection with the proposed “Plan of Reorganization under Chapter 11 of the Bankruptcy Code for Pacific Gas and Electric Company” (Plan) jointly filed by PG&E and Parent with the Bankruptcy Court on September 20, 2001, as it may be amended from time-to-time.

Applicants require authority to issue long-term notes in an amount not to exceed $1.415 billion for ETrans, $2.59 billion for Gen and $5.585 billion for PG&E, as well as $345 million of long-term mortgage bonds for PG&E. Applicants also seek authority to issue short-term notes in an amount not to exceed $500 million for ETrans, $350 million for Gen and $2.0 billion for PG&E (the amount of these short-term notes, together with all long-term notes issued, also is not to exceed the amount listed above for long-term notes). Applicants further seek authority to make drawings and provide letters of credit pursuant to short-term working capital facilities in an amount not to exceed $380 million for ETrans, $180 million for Gen and $1.2 billion for PG&E. In addition, Applicants seek authority for assumptions of liabilities in an amount not to exceed $105 million for ETrans, $264 million for Gen and $401 million for PG&E. Finally, PG&E requests authority to issue up to 170 million shares of its common stock and to distribute stock purchase rights to each of its shareholders, and ETrans seeks authority to issue additional equity in an amount not to exceed $200 million.

Applicants request that the Commission's authorization be effective on the later of the date on which Applicants notify the Commission that the Bankruptcy Court has issued an order authorizing issuances of securities in connection with the Plan or the date of the Commission's order authorizing these transactions (which is requested to be issued no later than July 30, 2002) and extending for three years from the effective date of the authorization. Applicants provide pursuant to section 34.4 of the Commission's regulations historical financial statements for PG&E and projected financial statements for each of the Applicants.

Comment date: December 21, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-30960 Filed 12-14-01; 8:45 am]

BILLING CODE 6717-01-P